SOCIAL SECURITY ADMINISTRATION

Social Security Ruling, SSR 05-03p.; Title XVI: Determining Continuing Disability at Step 2 of the Medical Improvement Review Standard Sequential Evaluation Process for Children Under Age 18—Functional Equivalence

Correction

In notice document 05-8390 beginning on page 21833 in the issue of Wednesday, April 27, 2005 make the following correction:

On pages 21834-21835, the chart is corrected to read as set forth below:

[FR Doc. C5-8390 Filed 5-10-05; 8:45 am]

BILLING CODE 1505-01-D